DEPARTMENT OF HEALTH AND HUMAN SERVICES

Centers for Disease Control and Prevention

[60Day-02-46]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Examination of HIV Stigmatizing Beliefs and Attitudes in a Nationally Representative Cohort—New—National Center for HIV, STD, and TB Prevention (NCHSTP), Centers for Disease Control and Prevention, (CDC).

CDC, National Center for HIV, STD and TB Prevention, Division of HIV/AIDS Prevention-Intervention, Research, and Support (DHAP-IRS) propose a brief follow-up study of a nationally representative sample of individuals that completed short questionnaires about HIV stigmatizing attitudes in the summer of 2000. The original study relied on a new technology, the Web-enabled television, to collect data from individuals in their homes. This same technique will be be used to gather data in the proposed study. The information obtained will contribute to an understanding of stigmatizing attitudes, investigate the effectiveness of a stigma-reduction strategy with the potential to reach broadly into a target audience, and guide future research and intervention efforts in this area.

HIV stigma inhibits HIV testing and positive serostatus disclosure, and thus increases the risk of HIV infection. Although there is evidence that, in the general population, HIV stigmatizing attitudes and beliefs may have decreased somewhat over the last 15 years, there is no information about the stability of HIV stigmatizing attitudes and beliefs over time within the same individuals. Understanding patterns of stigma will make it possible to identify effective strategies for stigma reduction, and these could carry a significant public health benefit.

HIV stigma is a pervasive societal problem, and a meaningful decrease in stigma will require interventions that reach large numbers of people. The electronic mass media reach millions of people, and nationally televised broadcasts have been shown to increase knowledge of health issues, promote attitudes and norms that support prevention, and model prevention behaviors. Serialized daytime television dramas may offer some particular advantages for effective dissemination of anti-stigma messages. A large proportion of their audiences, compared with other demographic groups, report getting their health information from television. In addition, the dramatic presentation of health-relevant messages may make them more noticeable and memorable. The CDC collaborates with writers of television shows to ensure that the health-related information they present is accurate and timely. After collaboration with CDC officials, a long-running, televised, daytime soap opera introduced a subplot about HIV. The subplot presented information that has the potential to reduce HIV stigmatizing attitudes in viewers. The proposed study will screen all respondents for exposure to this soap opera broadcast and a similar one without an HIV storyline so that the effects of storyline exposure on HIV stigma can be assessed. There is no cost to the respondent.

Respondents | Number of respondents | Number of responses/respondent | Average Burden Response (in hours) | Average burden Per response (in hours)
Adult non-viewers | 3200 | 1 | 5/60 | 267
Adult viewers | 300 | 1 | 10/60 | 50
Total |  |  |  | 317

Dated: April 19, 2002.
Nancy E. Cheal,
Acting Associate Director for Policy, Planning and Evaluation, Centers for Disease Control and Prevention.

[FR Doc. 02-10401 Filed 4-26-02; 8:45 am]

BILLING CODE 4163-18-P